DEPARTMENT OF DEFENSE

GENERAL SERVICES ADMINISTRATION

NATIONAL AERONAUTICS AND SPACE ADMINISTRATION

[OMB Control No. 9000-0001; Docket No. 2017-0053; Sequence 14]

Submission for OMB Review; Standard Form 28, Affidavit of Individual Surety

AGENCY: Department of Defense (DOD), General Services Administration (GSA), and National Aeronautics and Space Administration (NASA).

ACTION: Notice.

SUMMARY: Under the provisions of the Paperwork Reduction Act of 1995, the Regulatory Secretariat Division will be submitting to the Office of Management and Budget (OMB) a request to review and approve an extension of a previously approved information collection requirement concerning the Standard Form (SF) 28, Affidavit of Individual Surety.

DATES: Submit comments on or before January 29, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0001. Select the link that corresponds with “Information Collection 9000-0001, SF 28, Affidavit of Individual Surety”. Follow the instructions provided on the screen.

Please include your name, company name (if any), and “Information Collection 9000-0001, SF 28, Affidavit of Individual Surety”, on your attached document.

• Mail: General Services Administration, Regulatory Secretariat Division (MVCB), 1800 F Street NW, Washington, DC 20405. ATTN: Ms. Mandell/IC 9000-0001, SF 28, Affidavit of Individual Surety.

Instructions: Please submit comments only and cite Information Collection 9000-0001, SF 28, Affidavit of Individual Surety, in all correspondence related to this collection. All comments received will be posted without change to http://www.regulations.gov, including any personal and/or business confidential information provided.

FOR FURTHER INFORMATION CONTACT: Ms. Zenaida Delgado, Procurement Analyst, Federal Acquisition Policy Division, GSA, 202-969-7207 or zenaida.delgado@gsa.gov.

SUPPLEMENTARY INFORMATION:

A. Purpose

The Standard Form (SF) 28, Affidavit of Individual Surety, is used by all executive agencies, including the Department of Defense, to obtain information from individuals wishing to serve as sureties to Government bonds. Offerors and contractors may use an individual surety as security for bonds required under a solicitation/contract for supplies or services (including construction). It is an elective decision on the part of the offeror/contractor to use individual sureties instead of other available sources of surety or sureties for Government bonds. The information on the SF 28 is used to assist the contracting officer in determining the acceptability of individuals proposed as sureties.

B. Public Comment

A 60 day notice was published in the Federal Register at 82 FR 48231, on October 17, 2017. No comments were received.

C. Annual Reporting Burden

The number of solicitations and contracts requiring the submission of bid guarantees, performance, or payment bonds, correlate roughly to the number of contract awards containing FAR clause 52.228-11, Pledge of Assets. Fiscal year 2016 data on the number of contracts containing FAR clause 52.228-11 was obtained from the Electronic Document Access system (DoD official contract file system) to estimate burdens for this information collection notice. The following is a summary of the FY 2016 data:

Respondents: 244.

Responses Per Respondent: 2.

Total Responses: 488.

Hours Per Response: 0.3.

Total Burden Hours: 146.

Obtaining Copies of Proposals: Requesters may obtain a copy of the information collection documents from the General Services Administration, Regulatory Secretariat Division (MVCB), 1800 F Street NW, Washington, DC 20405, telephone 202-501-4755. Please cite OMB Control No. 9000-0001, SF 28, Affidavit of Individual Surety, in all correspondence.

Dated: December 21, 2017.
Lorin S. Curit,
Director, Federal Acquisition Policy Division, Office of Government-wide Acquisition Policy, Office of Acquisition Policy, Office of Government-wide Policy.

[FR Doc. 2017-28025 Filed 12-27-17; 8:45 am]

BILLING CODE 6820-EP-P